DEPARTMENT OF LABOR

Employment and Training Administration

[TA-W-62,922]

Kodyn Products Company, Loyalhanna, PA; Notice of Termination of Investigation

Pursuant to section 221 of the Trade Act of 1974, as amended, an investigation was initiated on February 28, 2008 in response to a worker petition filed by a company official on behalf of workers of Kodyn Products Company, Loyalhanna, Pennsylvania.

The petitioner has requested that the petition be withdrawn. Consequently, the investigation has been terminated.

Signed at Washington, DC, this 3rd day of April 2008.
Elliott S. Kushner,
Certifying Officer, Division of Trade Adjustment Assistance.

[FR Doc. E8-7740 Filed 4-10-08; 8:45 am]

BILLING CODE 4510-FN-P